DEPARTMENT OF TRANSPORTATION

Federal Aviation Administration

14 CFR Part 95

[Docket No. 30823; Amdt. No. 498]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, February 9, 2012.

FOR FURTHER INFORMATION CONTACT: Rick Dunham, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on January 6, 2012.
John McGraw,
Deputy Director, Flight Standards Service.

Adoption of the Amendment

Accordingly, pursuant to the authority delegated to me by the Administrator, part 95 of the Federal Aviation Regulations (14 CFR part 95) is amended as follows effective at 0901 UTC, February 9, 2012.

1. The authority citation for part 95 continues to read as follows:

Authority: 49 U.S.C. 106(g), 40103, 40106, 40113, 40114, 40120, 44502, 44514, 44719, 44721.

2. Part 95 is amended to read as follows:

Revisions to IFR Altitudes and Changeover Points Amendment 498 Effective Date February 9, 2012
From | To | MEA
§ 95.10 Amber Federal Airway A1 Is Amended To Read in Part
Orca Bay, AK NDB | Campbell Lake, AK NDB | *9000
* 8300-MOCA

From | To | MEA | MAA
§ 95.3000 Low Altitude RNAV Routes
§ 95.3223 RNAV Route T223 Is Amended To Read in Part
Nonda, AK FIX | * Bluga, AK FIX | **12400 | 17500
* 10000—MCA Bluga, AK FIX, SW BND
** 11800—MOCA
Bluga, AK FIX | *Amott, AK FIX | 3000 | 17500
* 7400—MCA Amott, AK FIX, SW BND
Is Amended by Adding
Amott, AK FIX | Anchorage, AK VOR/DME | 3000 | 17500
§ 95.3227 RNAV Route T227 Is Amended by Adding
Big Lake, AK VORTAC | Sures, AK FIX | 7000 | 17500
Sures, AK FIX | Cawin, AK FIX | *9700 | 17500
* 8600—MOCA
Cawin, AK FIX | Liber, AK FIX | 9000 | 17500
Liber, AK FIX | * Glows, AK FIX | 7100 | 17500
* 4800—MCA Glows, AK FIX, S BND
Is Amended To Read in Part
Culti, AK FIX | Batty, AK FIX | *6100 | 17500
* 5600—MOCA
Batty, AK FIX | *Amott, AK FIX | **13000 | 17500
* 5200—MCA Amott, AK FIX, SW BND
** 12300—MOCA
Amott, AK FIX | Big Lake, AK VORTAC | *3400 | 17500
* 2700—MOCA
Glows, AK FIX | Fairbanks, AK VORTAC | 3400 | 17500
§ 95.3244 RNAV Route T244 Is Amended To Read in Part
Anchorage, AK VOR/DME | * Cakad, AK FIX | 3000 | 17500
* 6400—MCA Cakad, AK FIX, NW BND
Cakad, AK FIX | Cexix, AK FIX | 6600 | 17500
Cexix, AK FIX | * Betpe, AK FIX | 10000 | 17500
* 7800—MCA Betpe, AK FIX, SE BND
Betpe, AK FIX | Cheff, AK FIX | 6400 | 17500
Cheff, AK FIX | Confi, AK FIX | 5300 | 17500
§ 95.3246 RNAV Route T246 Is Amended To Read in Part
Mc Grath, AK VORTAC | * Winor, AK FIX | 4900 | 17500
* 7500—MCA Winor, AK FIX, SE BND
Winor, AK FIX | Ffitz, AK FIX | 8200 | 17500
Ffitz, AK FIX | * Frida, AK FIX | 8800 | 17500
* 7600—MCA Frida, AK FIX, NW BND
Frida, AK FIX | * Ivann, AK FIX | 6600 | 17500
* 5900—MCA Ivann, AK FIX, W BND
Ivann, AK FIX | Anchorage, AK VOR/DME | 2200 | 17500
§ 95.3269 RNAV Route T269 Is Amended To Read in Part
Johnstone Point, AK VOR/DME | * Fimib, AK FIX | 3200 | 17500
* 5400—MCA Fimib, AK FIX, W BND
Fimib, AK FIX | * Anchorage, AK VOR/DME | 8800 | 17500
* 6300—MCA Anchorage, AK VOR/DME, E BND
Yonek, AK FIX | * Torte, AK FIX | 5000 | 17500
* 8400—MCA Torte, AK FIX, W BND
Torte, AK FIX | * Veill, AK FIX | 10600 | 17500
* 8000—MCA Veill, AK FIX, E BND
Veill, AK FIX | Sparrevohn, AK VOR/DME | 6600 | 17500
§ 95.4000 High Altitude RNAV Routes
§ 95.4043 RNAV Route Q43 Is Amended To Read in Part
Anchorage, AK VOR/DME | Big Lake, AK VORTAC | 18000 | 45000
Big Lake, AK VORTAC | Fairbanks, AK VORTAC | 18000 | 45000
§ 95.4045 RNAV Route Q45 Is Amended To Read in Part
Dillingham, AK VOR/DME | Nonda, AK FIX | 18000 | 45000
Nonda, AK FIX | Amott, AK FIX | 18000 | 45000

From/To | Total distance | Changeover distance | Point from | Track angle | MEA | MAA
§ 95.5000 Ground-Based High Altitude RNAV Routes
J804R Is Amended To Read in Part
Anchorage, AK VOR/DME | 60.0 |  |  |  | 18000 | 45000
Nowel, AK |  |  |  | 133/314 To Nowel |  |
Nowel, AK | 90.5 |  |  |  | 18000 | 45000
Middleton Island, AK |  |  |  | 134/316 To Middleton Island |  |
VOR/DME
J889R Is Amended To Read in Part
Nowel, AK | 75.0 | 10.0 | Nowel | 112/294 To Cop | 18000 | 45000
Arise, AK |  |  |  | 112/294 To Arise |  |
Arise, AK | 71.0 |  |  | 112/293 To Konks | 18000 | 45000
Konks, AK
Konks, AK | 116.0 | 40.0 | Konks | 111/294 To Cop | 18000 | 45000
Laire, AK |  |  |  | 294/114 To Laire |  |

§ 95.6001 VICTOR ROUTES-U.S.
From | To | MEA
§ 95.6001 VICTOR ROUTES—U.S.
§ 95.6003 VOR Federal Airway V3 Is Amended To Read in Part
Bangor, ME VORTAC | Houlton, ME VOR/DME | *2800
*2300—MOCA
§ 95.6134 VOR Federal Airway V134 Is Amended To Read in Part
Grand Junction, CO VOR/DME | *Paces, CO FIX | 11500
*13000—MRA
*Paces, CO FIX | #Slolm, CO FIX | 13000
*13000—MRA
#MTA V134 NE TO V220 NW 12900
Slolm, CO FIX | *Gleno, CO FIX | 14000
*16000—MRA
*Gleno, CO FIX | Red Table, CO VOR/DME | 14000
*16000—MRA
§ 95.6159 VOR Federal Airway V159 Is Amended To Read in Part
Nitny, FL FIX | Jupem, FL FIX | 3000
Jupem, FL FIX | Vero Beach, FL VORTAC | 2600
§ 95.6201 VOR Federal Airway V201 Is Amended To Read in Part
Los Angeles, CA VORTAC | *Berri, CA FIX | 5000
*7600—MCA Berri, CA FIX, N BND
Berri, CA FIX | *Soled, CA FIX | 8800
*8400—MCA Soled, CA FIX, S BND
Soled, CA FIX | Palmdale, CA VORTAC | 7500
§ 95.6209 VOR Federal Airway V209 Is Amended To Read in Part
Kewanee, MS VORTAC | Brookwood, AL VORTAC | 2400
§ 95.6211 VOR Federal Airway V211 Is Amended To Read in Part
Brazo, NM FIX | Durango, CO VOR/DME
W BND |  | 11300
E BND |  | 13000
Durango, CO VOR/DME | Cortez, CO VOR/DME | 11300
§ 95.6220 VOR Federal Airway V220 Is Amended To Read in Part
Grand Junction, CO VOR/DME | *Paces, CO FIX | 11500
*13000—MRA
*Paces, CO FIX | #Slolm, CO FIX | 13000
*13000—MRA
#MTA V220 NE TO V220 NW 12900
Slolm, CO FIX | Rifle, CO VOR/DME | 12400
§ 95.6550 VOR Federal Airway V550 Is Amended To Read in Part
San Antonio, TX VORTAC | Centex, TX VORTAC | 3300
§ 95.6591 VOR Federal Airway V591 Is Amended To Read in Part
Grand Junction, CO VOR/DME | *Paces, CO FIX | 11500
*13000—MRA
*Paces, CO FIX | #Slolm, CO FIX | 13000
*13000—MRA
#MTA V591 NE TO V220 NW 12900
Slolm, CO FIX | *Gleno, CO FIX | 14000
*16000—MRA
§ 95.6319 Alaska VOR Federal Airway V319 Is Amended To Read in Part
Johnstone Point, AK VOR/DME | *Edele, AK FIX
E BND |  | 4400
W BND |  | 10000
*6800—MCA Edele, AK FIX, W BND
Edele, AK FIX | *Snris, AK FIX | 10000
*10000—MRA
Snris, AK FIX | *Anchorage, AK VOR/DME | 8200
*6100—MCA Anchorage, AK VOR/DME, E BND
Yonek, AK FIX | *Torte, AK FIX |
W BND |  | 12000
E BND |  | 7000
*11400—MCA Torte, AK FIX, W BND
Torte, AK FIX | *Veill, AK FIX | 12000
*8000—MCA Veill, AK FIX, E BND
Veill, AK FIX | Sparrevohn, AK VOR/DME |
E BND |  | 12000
W BND |  | 6600
§ 95.6320 Alaska VOR Federal Airway V320 Is Amended by Adding
Mc Grath, AK VORTAC | Erlan, AK FIX |
E BND |  | 10000
W BND |  | 5000
Erlan, AK FIX | Winor, AK FIX |
E BND |  | 10000
W BND |  | 8000
Winor, AK FIX | *Frida, AK FIX | 10000
*9500—MRA
*7600—MCA Frida, AK FIX, W BND
Frida, AK FIX | Runtl, AK FIX | 8500
Runtl, AK FIX | Kayti, AK FIX | 6400
Kayti, AK FIX | *Anchorage, AK VOR/DME | 3700
*6000—MCA Anchorage, AK VOR/DME, SE BND
Is Amended To Read in Part
Anchorage, AK VOR/DME | Hoper, AK FIX |
SE BND |  | 10000
NW BND |  | 6500
Hoper, AK FIX | Nelli, AK FIX | 10000
Nelli, AK FIX | Kebab, AK FIX |
NW BND |  | 10000
SE BND |  | 5000
§ 95.6388 Alaska VOR Federal Airway V388 Is Amended To Read in Part
Anchorage, AK VOR/DME | Napto, AK FIX | 2300
Napto, AK FIX | Kenai, AK VOR/DME | 2400
§ 95.6435 Alaska VOR Federal Airway V435 Is Amended To Read in Part
Kassi, AK FIX | Kenai, AK VOR/DME |
S BND |  | *4400
N BND |  | *2000
*1700—MOCA
*2000—GNSS MEA
§ 95.6436 Alaska VOR Federal Airway V436 Is Amended To Read in Part
Anchorage, AK VOR/DME | Tager, AK FIX | 2200
Tager, AK FIX | *Talkeetna, AK VOR/DME | 3000
*3800—MCA Talkeetna, AK VOR/DME, N BND
§ 95.6438 Alaska VOR Federal Airway V438 Is Amended To Read in Part
Homer, AK VOR/DME | Skila, AK FIX | 5000
Skila, AK FIX | Napto, AK FIX | 2400
Napto, AK FIX | Anchorage, AK VOR/DME | 2300
Anchorage, AK VOR/DME | Big Lake, AK VORTAC | 2000
Big Lake, AK VORTAC | *Sures, AK FIX | #7500
*10000—MRA
#MEA is Established With a Gap in Navigation Signal Coverage.
*Sures, AK FIX | Liber, AK FIX | **10000
*10000—MRA
**8900—MOCA
Liber, AK FIX | *Glows, AK FIX | 7500
*4800—MCA Glows, AK FIX, S BND
Glows, AK FIX | Fairbanks, AK VORTAC | 3400
§ 95.6440 Alaska VOR Federal Airway V440 Is Amended To Read in Part
Mc Grath, AK VORTAC | ERLAN, AK FIX |
E BND |  | 10000
W BND |  | 5000
Erlan, AK FIX | Winor, AK FIX |
E BND |  | 10000
W BND |  | 8000
Winor, AK FIX | *Frida, AK FIX | 10000
*9500—MRA
*7600—MCA Frida, AK FIX, W BND
*Frida, AK FIX | **Ivann, AK FIX | 6600
*9500—MRA
**5900—MCA IVANN, AK FIX, W BND
Ivann, AK FIX | *Anchorage, AK VOR/DME | 2200
*6000—MCA Anchorage, AK VOR/DME, SE BND
Anchorage, AK VOR/DME | Hoper, AK FIX |
SE BND |  | 10000
NW BND |  | 6500
Hoper, AK FIX | Modds, AK FIX | 10000
Modds, AK FIX | Middleton Island, AK VOR/DME |
SE BND |  | 6000
NW BND |  | 10000
§ 95.6441 Alaska VOR Federal Airway V441 Is Amended To Read in Part
Middleton Island, AK VOR/DME | Deals, AK FIX | 6000
Deals, AK FIX | *Sewar, AK FIX | **9000
*10000—MRA
**8400—MOCA
Sewar, AK FIX | Broil, AK FIX | **10000
*7700—MOCA
*7700—GNSS MEA
Broil, AK FIX | *Hatul, AK FIX | **7100
*5600—MCA Hatul, AK FIX, SE BND
Hatul, AK FIX | *Anchorage, AK VOR/DME | 4600
*4200—MCA Anchorage, AK VOR/DME, SE BND
§ 95.6456 Alaska VOR Federal Airway V456 Is Amended To Read in Part
Cold Bay, AK VORTAC | Binal, AK FIX |
SW BND |  | *4000
NE BND |  | *14000
*3400—MOCA
Binal, AK FIX | Tanie, AK FIX | *14000
*3400—MOCA
Tanie, AK FIX | King Salmon, AK VORTAC | # *3000
*1600—MOCA
#MEA 14000 SW When DLG FSS Shut Down
King salmon, AK VORTAC | Strew, AK FIX |
W BND |  | *3000
E BND |  | *9000
*2300—MOCA
Strew, AK FIX | Bitop, AK FIX |
E BND |  | *9000
W BND |  | *5000
*5000—MOCA
*5000—GNSS MEA
Bitop, AK FIX | *Nosky, AK FIX | **9000
*8200—MCA Nosky, AK FIX, NE BND
**5200—MOCA
**6000—GNSS MEA
Big Lake, AK VORTAC | Matta, AK FIX | 7000
Matta, AK FIX | *Ureka, AK FIX | **10000
*7200—MCA Ureka, AK FIX, SW BND
**9400—MOCA
Ureka, AK FIX | Smoky, AK FIX |
NE BND |  | *7000
SW BND |  | *10000
*6300—MOCA
*7000—GNSS MEA
Smoky, AK FIX | Gulkana, AK VOR/DME |
NE BND |  | *5000
SW BND |  | *10000
*5000—GNSS MEA
§ 95.6457 Alaska VOR Federal Airway V457 Is Amended To Read in Part
Iliamna, AK NDB/DME | *Awomy, AK FIX |
W BND |  | 5700
E BND |  | 9000
*7000—MCA Awomy, AK FIX, E BND
Awomy, AK FIX | *Mofof, AK FIX | 9000
*7000—MCA Mofof, AK FIX, W BND
Mofof, AK FIX | Kenai, AK VOR/DME |
W BND | 9000
E BND |  | 3000
§ 95.6462 Alaska VOR Federal Airway V462 Is Amended To Read in Part
Nonda, AK FIX | *Bluga, AK FIX | **14000
*10000—MCA Bluga, AK FIX, SW BND
**12400—MOCA
Bluga, AK FIX | *Amott, AK FIX | 7000
*7400—MCA Amott, AK FIX, SW BND
Amott, AK FIX | Anchorage, AK VOR/DME | 4000
§ 95.6508 Alaska VOR Federal Airway V508 Is Amended To Read in Part
Middleton Island, AK VOR/DME | Deals, AK FIX | 6000
Deals, AK FIX | *Sewar, AK FIX | **9000
*10000—MRA
**8400—MOCA
Sewar, AK FIX | *Skila, AK FIX | **9000
*5100—MCA Skila, AK FIX, E BND
**7800—MOCA
**8000—GNSS MEA
Skila, AK FIX | Rojar, AK FIX | 2400
Rojar, AK FIX | Kenai, AK VOR/DME | 2000
Kenai, AK VOR/DME | *Nearr, AK FIX | **3000
*7600—MCA Nearr, AK FIX, W BND
**2500—MOCA
Nearr, AK FIX | Akgas, AK FIX | 12000
Akgas, AK FIX | Sparrevohn, AK VOR/DME | 6000
§ 95.6510 Alaska VOR Federal Airway V510 Is Amended To Read in Part
Mc Grath, AK VORTAC | Erlan, AK FIX |
E BND |  | 10000
W BND |  | 5000
Erlan, AK FIX | Winor, AK FIX |
E BND |  | 10000
W BND |  | 8000
Winor, AK FIX | Ffitz, AK FIX | 10000
Ffitz, AK FIX | Rohhn, AK FIX | *10000
*8800—MOCA
*9000—GNSS MEA
Rohhn, AK FIX | Big Lake, AK VORTAC | *4000
*3400—MOCA

From | To | MEA | MAA
§ 95.7001 Jet Routes
§ 95.7115 Jet Route J115 Is Amended To Read in Part
Anchorage, AK VOR/DME | Big Lake, AK VORTAC | 18000 | 45000
Big Lake, AK VORTAC | Fairbanks, AK VORTAC | 18000 | 45000
§ 95.7124 Jet Route J124 Is Amended To Delete
Anchorage, AK VOR/DME | Big Lake, AK VORTAC | 18000 | 45000
§ 95.7133 Jet Route J133 Is Amended To Read in Part
Anchorage, AK VOR/DME | Galena, AK VOR/DME | 18000 | 45000
§ 95.7511 Jet Route J511 Is Amended To Read in Part
Dillingham, AK VOR/DME | Anchorage, AK VOR/DME | 21000 | 45000
Anchorage, AK VOR/DME | Gulkana, AK VOR/DME | 18000 | 45000

Airway Segment: From | Airway Segment: To | Changeover points: Distance | Changeover points: From
§ 95.8003 VOR Federal Airway Changeover Points
V220 Is Amended To Delete Changeover Point
Grand Junction, CO VOR/DME | Rifle, CO VOR/DME | #56 | Grand Junction
#COP—The COP is at the Slolm Int
V591 Is Amended To Modify Changeover Point
Grand Junction, CO VOR/DME | Red Table, CO VOR/DME | #56 | Grand Junction
#The COP is at the Slolm Int
Alaska V320 Is Amended To Add Changeover Point
Mc Grath, AK VORTAC | Anchorage, AK VOR/DME | 95 | Mc Grath
Alaska V438 Is Amended To Add Changeover Point
Homer, AK VOR/DME | Anchorage, AK VOR/DME | 53 | Homer
Alaska V440 Is Amended To Add Changeover Point
Mc Grath, AK VORTAC | Anchorage, AK VOR/DME | 95 | Mc Grath
Is Amended to Delete Changeover Point
Middleton Island, AK VOR/DME | Anchorage, AK VOR/DME | 95 | Middleton Island
Alaska V441 Is Amended To Modify Changeover Point
Middleton Island, AK VOR/DME | Kenai, AK VOR/DME | 85 | Middleton Island
Alaska V508 Is Amended To Add Changeover Point
Middleton Island, AK VOR/DME | Kenai, AK VOR/DME | 85 | Middleton Island
Kenai, AK VOR/DME | Sparrevohn, AK VOR/DME | 67 | Kenai
§ 95.8005 Jet Routes Changeover Points
J125 Is Amended To Modify Changeover Point
Kodiak, AK VOR/DME | Anchorage, AK VOR/DME | 103 | Kodiak

[FR Doc. 2012-1046 Filed 1-20-12; 8:45 am]

BILLING CODE 4910-13-P